DEPARTMENT OF COMMERCE

National Oceanic and Atmospheric Administration

50 CFR Part 216

[Docket No. 140429386-4386-01]

RIN 0648-XD275

Petition To Designate Sakhalin Bay-Amur River Beluga Whales Stock as Depleted Under the Marine Mammal Protection Act; Finding

AGENCY: National Marine Fisheries Service (NMFS), National Oceanic and Atmospheric Administration (NOAA), Commerce.

ACTION: Notice of 60-day petition finding; extension of public comment period.

SUMMARY: NMFS received a petition to “designate the Sakhalin Bay-Amur River stock of beluga whales (Delphinapterus leucas) as a depleted stock under the Marine Mammal Protection Act (MMPA).” On August 1, 2014, NMFS announced that the petition presented substantial information indicating that the petitioned action may be warranted and that NMFS would initiate a status review promptly. NMFS also solicited information from the public that may contribute to the status review. NMFS is extending the comment period for 30 days.

DATES: The comment period for the petition finding published August 1, 2014, at 79 FR 44733, is extended. Information and comments must be received by close of business on September 29, 2014.

ADDRESSES: The petition and a list of references contained in this notice are available in electronic form via the Internet at http://www.nmfs.noaa.gov/pr/. A copy of the petition and/or its supporting documents may be requested from Chief, Marine Mammal and Sea Turtle Conservation Division, Office of Protected Resources, National Marine Fisheries Service, 1315 East-West Highway, Silver Spring, MD 20910.

You may submit comments, identified by NOAA-NMFS-2014-0056, by any of the following methods:

Electronic Submissions: Submit all electronic public comments via the Federal eRulemaking Portal http://www.regulations.gov.

Mail: Send comments or requests for copies of reports to: Chief, Marine Mammal and Sea Turtle Conservation Division, Office of Protected Resources, National Marine Fisheries Service, 1315 East-West Highway, Silver Spring, MD 20910-3226, Attn: Beluga petition.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Dr. Shannon Bettridge, Office of Protected Resources, Silver Spring, MD; shannon.bettridge@noaa.gov; (301) 427-8402.

SUPPLEMENTARY INFORMATION:

Background

On April 23, 2014, NMFS received a petition from the Animal Welfare Institute, Whale and Dolphin Conservation, Cetacean Society International and Earth Island Institute to “designate the Sakhalin Bay-Amur River stock of beluga whales as depleted under the MMPA.” The petition asserts this group of whales constitutes a stock and that this stock is below its optimum sustainable population (OSP) and qualifies for a depleted designation. It also argues that the causes of the stock's decline include: large-scale commercial hunting from 1915-1963; unsustainable removal quotas; hunting permits; incidental mortality from fishing operations; accidental drowning during live-capture operations; vessel strikes; and other anthropogenic threats.

The MMPA allows interested parties to petition NMFS to initiate a status review to determine whether a species or stock of marine mammals should be designated as depleted. Section 115(a)(3) of the MMPA (16 U.S.C. 1383b(a)(3)) requires NMFS to publish a notice in the Federal Register that such a petition has been received and is available for public review. Within 60 days of receiving a petition, NMFS must publish a finding in the Federal Register as to whether the petition presents substantial information indicating that the petitioned action may be warranted.

Pursuant to Section 115(a)(3)(A) of the MMPA, NMFS published a notice in the Federal Register that the petition had been received and was available for public review (79 FR 28879, May 20, 2014). In response to its announcement that the petition had been received, NMFS received 17 comments, all expressing support for the petitioned action. Several non-governmental organizations submitted letters of support, providing information similar or identical to the information provided in the petition. These comments and supporting information can be found at www.regulations.gov (Docket ID: NOAA-NMFS-2014-0056).

Pursuant to Section 115(a)(3)(B) of the MMPA, NMFS published a notice in the Federal Register stating that after reviewing information presented in the petition, readily available in our files, and submitted through the public comment process, the petition presented substantial information indicating that the petitioned action may be warranted and that NMFS will initiate a status review (79 FR 44733, August 1, 2014).

NMFS subsequently received a request by the Georgia Aquarium to extend the public comment period by 60 days to provide all stakeholder parties, including the Aquarium, an adequate opportunity to provide NMFS with the information necessary to make an accurate determination on the status of the species. In this notice NMFS is extending the public comment period until October 6, 2014, to allow adequate time for the public to provide scientific information relevant to the status of the Sakhalin Bay-Amur River beluga whales. To provide a more extended public comment period would preclude NMFS from meeting its statutory requirements under the MMPA. The MMPA mandates NMFS to promptly initiate a status review and if the status review supports the petitioned action, publish in the Federal Register and solicit comments on a proposed rule as to the status of the stock, along with the reasons underlying the proposed status determination no later than 210 days after receipt of the petition.

Information Solicited

To ensure that the status review is based on the best scientific information available, we are soliciting scientific information relevant to the status of the Sakhalin Bay-Amur River beluga whales from the public, including individuals and organizations concerned with the conservation of marine mammals, persons in industry which may be affected by the determination, and academic institutions. Specifically, we are soliciting information related to (1) the identification of Sakhalin Bay-Amur River beluga whales as a stock, (2) the historical or current abundance of this group, and (3) factors that may be affecting the group.

Dated: August 29, 2014.
Donna S. Wieting,
Director, Office of Protected Resources, National Marine Fisheries Service.

[FR Doc. 2014-21090 Filed 8-29-14; 4:15 pm]

BILLING CODE 3510-22-P